FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than June 3, 2020.

A. Federal Reserve Bank of Philadelphia (William Spaniel, Senior Vice President) 100 North 6th Street, Philadelphia, Pennsylvania 19105-1521. Comments can also be sent electronically to Comments.applications@phil.frb.org:

1. Patriot Financial Partners, GP II, L.P., Patriot Financial Partners II, L.P., Patriot Financial Partners Parallel II, L.P., Patriot Financial Partners, GP II, LLC, Patriot Financial Manager, L.P., Patriot Financial Manager, LLC, and W. Kirk Wycoff, James J. Lynch, and Ira M. Lubert (each of whom own the previously listed entities), all of Radnor, Pennsylvania; as members of a group acting in concert to acquire voting shares of Avidbank Holdings, Inc. and thereby indirectly acquire voting shares of Avidbank, both of San Jose, California.

Board of Governors of the Federal Reserve System, May 14, 2020.
Yao-Chin Chao,
Assistant Secretary of the Board.

[FR Doc. 2020-10796 Filed 5-19-20; 8:45 am]

BILLING CODE P